DEPARTMENT OF THE INTERIOR

Fish and Wildlife Service

[FWS-R1-R-2011-N121; 1265-0000-10137-S3]

Willapa National Wildlife Refuge, Pacific County, WA; Final Comprehensive Conservation Plan and Environmental Impact Statement

AGENCY: Fish and Wildlife Service, Interior.

ACTION: Notice of availability.

SUMMARY: We, the U.S. Fish and Wildlife Service (Service), announce the availability of the final comprehensive conservation plan and environmental impact statement (Final CCP/EIS) for the Willapa National Wildlife Refuge (Refuge). In this final CCP/EIS, we describe how we propose to manage this Refuge for the next 15 years.

DATES: We will sign a record of decision no sooner than 30 days after publication of this notice.

ADDRESSES: You may view or request a printed or CD-ROM copy of the Final CCP/EIS by any of the following methods.

Agency Web Site: Download a copy of the Final CCP/EIS at http://www.fws.gov/willapa.

E-mail: FW1PlanningComments@fws.gov. Include “Willapa NWR Final CCP/EIS” in the subject line of the message.

Mail: Charlie Stenvall, Project Leader, Willapa National Wildlife Refuge Complex, 3888 SR 101, Ilwaco, WA 98624.

In Person Viewing: Willapa National Wildlife Refuge Complex, 3888 SR 101, Ilwaco, WA 98624.

Local Libraries: The Final CCP/EIS is available for review at the libraries listed under SUPPLEMENTARY INFORMATION.

FOR FURTHER INFORMATION CONTACT: Charlie Stenvall, Project Leader, (360) 484-3482 (phone).

SUPPLEMENTARY INFORMATION:

Introduction

With this notice, we announce the availability of the Refuge's Final CCP/EIS. We started this process through a notice in the Federal Register (73 FR 19238; April 9, 2008). We announced the availability of the Draft CCP/EIS and requested public comments on it through a notice of availability published in the Federal Register (76 FR 3922; January 21, 2011).

The Refuge was established in 1937 to protect migrating and wintering populations of brant, waterfowl, shorebirds, and other migratory birds, and for conservation purposes. The Refuge encompasses over 16,000 acres of tidelands, temperate rainforest, ocean beaches, sand dunes, rivers, and small streams. It also preserves several rare remnants of old growth coastal cedar forest, and habitat for spawning wild salmon, hundreds of thousands of migrating shorebirds, and threatened and endangered species such as the western snowy plover and marbled murrelet.

We announce the availability of the Final CCP/EIS in accordance with National Environmental Policy Act (NEPA) (40 CFR 1506.6(b)) requirements. We completed a thorough analysis of potential impacts on the human environment in the Final CCP/EIS. The CCP will guide us in managing and administering the Refuge for the next 15 years.

Background

The CCP Process

The National Wildlife Refuge System Administration Act of 1966 (16 U.S.C. 668dd-668ee) (Refuge Administration Act), as amended by the National Wildlife Refuge System Improvement Act of 1997, requires us to develop a CCP for each national wildlife refuge. The purpose for developing a CCP is to provide refuge managers with a 15-year plan for achieving refuge purposes and contributing toward the mission of the National Wildlife Refuge System, consistent with sound principles of fish and wildlife management, conservation, legal mandates, and our policies. In addition to outlining broad management direction for conserving wildlife and their habitats, CCPs identify compatible wildlife-dependent recreational opportunities available to the public, including opportunities for hunting, fishing, wildlife observation and photography, and environmental education and interpretation. We will review and update the CCP at least every 15 years in accordance with the Refuge Administration Act.

CCP Alternatives We Are Considering

We identified a number of issues in our Draft CCP/EIS and received a number of comments on the following Refuge management alternatives.

Under Alternative 1, there would be no changes to current Refuge management programs. We would continue to conduct current programs and operations based on Refuge funding and staffing levels. We would continue to maintain, and where feasible, restore, forest, wetland, and beach dune habitats, including habitats for imperiled species that are State or Federally listed as threatened or endangered. We would continue to implement the Refuge's forest management plan with our partners. Existing public uses—hunting, fishing, wildlife observation and photography, environmental education and interpretation, and camping—would continue.

Under Alternative 2, our preferred alternative, current wildlife and habitat management programs would be maintained. In addition, Alternative 2 contains the highest level of habitat improvements of the three alternatives. The intensively managed pastures and impoundments would be restored to historic estuarine conditions, increasing open water, intertidal flats, and salt marsh habitat by 621 acres. We would continue to implement the Refuge's forest management plan with our partners. On the Leadbetter Point Unit, a predator management program would be implemented, as necessary, to control avian and mammalian predators, and help meet western snowy plover recovery goals. On the Riekkola Unit, 93 acres of short-grass fields would be managed as foraging habitat for Canada geese, elk, and other grassland-dependent wildlife. Grassland restoration on 33 acres would include establishing the early-blue violet, a host plant that would serve the future reintroduction of the endangered Oregon silverspot butterfly. Managed freshwater wetlands would remain on the Tarlatt Unit. In Alternative 2, we proposed expanding the Refuge's approved boundary by 6,809 acres, in the Nemah, Naselle, South Bay, and East Hills areas. The Shoalwater and Wheaton Units (941 acres) would be divested from the Refuge.

Improvements to the wildlife-dependent public use program under Alternative 2 would include a new interpretive trail and wildlife observation deck along the South Bay. The new trail would tie into our proposed Tarlatt Unit visitor/administrative facility. We would expand the area where waterfowl hunting is conducted (in accordance with the State's season), to include approximately 5,570 acres, after the proposed estuarine restoration is completed. An additional 100 acres would be available for goose hunting. We would provide three blinds for goose hunting, and two blinds for waterfowl hunting. Walk-in hunters would have access to the blinds on a first-come, first-served basis. We would develop a cartop boat launch to access the South Bay. A special permit elk hunt is proposed for the Leadbetter Point Unit, and we would also expand elk and deer hunting in the South Bay and East Hills Units, in accordance with State seasons.

Under Alternative 3, the Refuge's intensively managed pastures and impoundments would be restored to historic estuarine conditions, creating and maintaining approximately 878 acres of open water habitat and 4,178 acres of intertidal flats, and increasing salt marsh habitat by 429 acres. The proposed estuarine restoration project would occur on the Lewis and Porter Point Units only. On the Leadbetter Point Unit, predator management would be implemented as necessary, to control avian predators and help meet western snowy plover recovery goals. We would continue to implement the Refuge's forest management plan, with partners. We would restore grassland habitat and establish the early-blue violet host plant on 33 acres, to serve the future reintroduction of the endangered Oregon silverspot butterfly. Managed freshwater wetlands would remain on the Riekkola and Tarlatt Units. An expanded land acquisition boundary is proposed, to include 4,900 acres located in the South Bay and East Hills areas. The Shoalwater and Wheaton Units would be divested from the Refuge.

Improvements to the wildlife-dependent public use program would include a new interpretive trail and wildlife observation deck along the South Bay that would tie into our proposed Tarlatt Unit visitor/administrative facility. After the proposed estuarine restoration is completed, the area where waterfowl hunting is conducted (in accordance with the State's season) would expand to include approximately 5,440 acres. In addition, we would provide seven blinds for walk-in goose hunting, available to hunters through a lottery system. We would expand hunting opportunities at the Leadbetter Point Unit, to include a permit-only regulated elk hunt. We would also provide elk and deer hunting opportunities in the South Bay Unit, in accordance with State seasons.

Comments

We initially solicited public comments on the Draft CCP/EIS for 45 days, from January 21 to March 7, 2011 (76 FR 3922), then extended the comment period to March 21, 2011, in response to public requests for more review time. We received comments on the Draft CCP/EIS from 213 individuals, agencies, and groups. We addressed the comments in the Final CCP/EIS, primarily by changing parts of Alternative 2, our preferred alternative. The changes we made to Alternative 2 follow.

• On the South Bay Units, we would restore 621 acres of historic estuarine habitats (open water, intertidal flats, and salt marsh), instead of the 749 acres previously identified in the Draft CCP/EIS, restoring only parts of the units' estuarine habitat. Also on the Riekkola Unit, instead of removing all of the short grass fields, we would manage 93 acres of short-grass fields for Canada geese and Roosevelt elk.

• Instead of removing all goose hunting blinds from the Riekkola Unit, we would maintain three goose hunting blinds, including a barrier-free blind, and add two waterfowl hunting blinds, including a barrier free blind, to the unit. Walk-in access to the blinds for hunting would be provided in accordance with State hunting regulations. During the nonhunting season, all Refuge visitors could use the blinds.

• In addition to previously proposed opportunities for wildlife observation, photography, and interpretive trails; the parking area, cartop boat launch, and a new trail to Porter Point would be open year round to all Refuge visitors.

Public Availability of Documents

In addition to the methods in ADDRESSES, you can view our Final CCP/EIS at the following libraries.

• Ilwaco Timberland Library, 158 1st Ave. North, Ilwaco, WA 98624.

• South Bend Timberland Library, West 1st and Pacific, South Bend, WA 98586.

• Ocean Park Timberland Library, 1308 256th Place, Ocean Park, WA 98640.

• Astoria Public Library, 450 10th St., Astoria, OR 97103.

Dated: June 23, 2011.
Robyn Thorson,
Regional Director, Region 1, Portland, Oregon.

[FR Doc. 2011-19838 Filed 8-11-11; 8:45 am]

BILLING CODE 4310-55-P